FEDERAL MARITIME COMMISSION

Ocean Transportation Intermediary License; Revocations

The Federal Maritime Commission hereby gives notice that the following ocean transportation intermediary licenses have been revoked pursuant to section 19 of the Shipping Act of 1984 (46 U.S.C. app. 1718) and the regulations of the Commission pertaining to the licensing of Ocean Transportation Intermediaries, effective on the corresponding dates shown below:

License Number: 4337N.

Name: Air-Land & Sea Transport, Inc. d/b/a Celestial Navigation.

Address: 3000 Wilcrest, Suite 350, Houston, TX 77042.

Date Revoked: March 30, 2000.

Reason: Failed to maintain a valid bond.

License Number: 15001N.

Name: Straight Shipping Service, Inc.

Address: 320 Northern Blvd., Great Neck, NY 11021.

Date Revoked: August 24, 2000.

Reason: Failed to maintain a valid bond.

License Number: 15609N.

Name: Yining International Inc.

Address: 43-45 Smart Street, Suite 301, Flushing, NY 11355.

Date Revoked: November 12, 2000.

Reason: Failed to maintain a valid bond.

Sandra L. Kusumoto,
Director, Bureau of Consumer Complaints and Licensing.

[FR Doc. 00-32420 Filed 12-19-00; 8:45 am]

BILLING CODE 6730-01-P